FEDERAL COMMUNICATIONS COMMISSION

47 CFR Part 32

[CC Docket Nos. 00-199, 97-212, 80-286, 99-301, WC Docket No. 02-269]

Uniform System of Accounts for Telecommunications Companies; Correction

AGENCY: Federal Communications Commission.

ACTION: Correcting amendments.

SUMMARY: This document contains corrections to the final regulations (CC Docket No. 00-199) that were published in the Federal Register of Wednesday, February 6, 2002 (67 FR 5670, Feb. 6, 2002), the Federal Register of Wednesday, April 24, 2002 (67 FR 20052, Apr. 24, 2002), the Federal Register of Wednesday, December 18, 2002 (67 FR 77432, Dec. 18, 2002), the Federal Register of Monday, June 30, 2003 (68 FR 38641, June 30, 2003), and the Federal Register of Wednesday, December 31, 2003 (68 FR 75455, Dec. 31, 2003). This document corrects the regulations regarding instructions for directory revenue (47 CFR 32.5230), depreciation and amortization expenses (47 CFR 32.6560), depreciation expense—telecommunications plant in service (47 CFR 32.6561), amortization expense—tangible (47 CFR 32.6563), amortization expense—intangible (47 CFR 32.6564), amortization expense—other (47 CFR 32.6565), call completion services (47 CFR 32.6621), number services (47 CFR 32.6622), and customer services (47 CFR 32.6623).

DATES: Effective July 27, 2004.

FOR FURTHER INFORMATION CONTACT: Jennifer McKee, Wireline Competition Bureau, Pricing Policy Division, (202) 418-1530.

SUPPLEMENTARY INFORMATION:

Background

On February 6, 2002, the Federal Register published a summary of a Commission order that made changes to the Part 32 rules regarding uniform system of accounts for telecommunications companies (67 FR 5670, Feb. 6, 2002). With regard to the rules at issue in this correction, the Commission deleted rule 47 CFR 32.5230 and merged it into rule 47 CFR 32.5200, deleted rules 47 CFR 32.6561 through 32.6565 and merged them into rule 47 CFR 32.6560, and deleted rules 47 CFR 32.6621 through 32.6623 and merged them into rule 47 CFR 32.6620. These deletions were to take effect on August 6, 2002, however, the Commission suspended the implementation of the rule deletions before that date, in an order published in the Federal Register on April 24, 2002 (67 FR 20052, Apr. 24, 2002). This order suspended the implementation of the rule deletions until January 1, 2003. The Commission further suspended the implementation of these rule deletions in orders published in the Federal Register on December 18, 2002 (67 FR 77432, Dec. 18, 2002) (suspending the implementation of the rule deletions until July 1, 2003), on June 30, 2003 (68 FR 38641, June 30, 2003) (suspending implementation of the rule deletions until January 1, 2004), and on December 31, 2003 (68 FR 75455, Dec. 31, 2003) (suspending implementation of the rule deletions until June 30, 2004). Although the deletion of the rules has been suspended, they have been removed from 47 CFR part 32.

Need for Correction

This correction reinstates the rules as described above.

List of Subjects in 47 CFR Part 32

Communications common carriers, Reporting and recordkeeping requirements, Telephone, Uniform System of Accounts.

Federal Communications Commission.
William F. Caton,
Deputy Secretary.

Accordingly, 47 CFR Part 32 is corrected by making the following correcting amendments:

PART 32—UNIFORM SYSTEM OF ACCOUNTS FOR TELECOMMUNICATIONS COMPANIES

1. The authority citation for part 32 continues to read as follows:

Authority: 47 U.S.C. 154(i), 154(j) and 220 as amended, unless otherwise noted.

2. Add § 32.5230 to read as follows:

§ 32.5230 Directory revenue.

This account shall include revenue derived from alphabetical and classified sections of directories and shall also include fees paid by other entities for the right to publish the company's directories. Items to be included are:

(a) All revenue derived from the classified section of the directories;

(b) Revenue from the sale of new telephone directories whether they are the company's own directories or directories purchased from others. This shall also include revenue from the sale of specially bound telephone directories and special telephone directory covers;

(c) Amounts charged for additional and boldface listings, marginal displays, inserts, and other advertisements in the alphabetical section of the company's telephone directories; and

(d) Charges for unlisted and non-published telephone numbers.

3. Revise § 32.6560 to read as follows:

§ 32.6560 Depreciation and amortization expenses.

This account shall be used by Class A telephone companies to summarize for reporting purposes the contents of Accounts 6561 through 6565. Class B telephone companies shall use this account for expenses of the type and character required of Class A companies in accounts 6561 through 6565.

4. Add § 32.6561 to read as follows:

§ 32.6561 Depreciation expense—telecommunications plant in service.

This account shall include the depreciation expense of capitalized costs in Accounts 2112 through 2441, inclusive.

5. Add § 32.6563 to read as follows:

§ 32.6563 Amortization expense—tangible.

This account shall include only the amortization of costs included in Accounts 2681, Capital leases, and 2682, Leasehold improvements.

6. Add § 32.6564 to read as follows:

§ 32.6564 Amortization expense—intangible.

This account shall include the amortization of costs included in Account 2690, Intangibles.

7. Add § 32.6565 to read as follows:

§ 32.6565 Amortization expense—other.

(a) This account shall include only the amortization of costs included in Account 2005, Telecommunications plant adjustment.

(b) This account shall also include lump-sum write offs of amounts of plant acquisition adjustment as provided for in § 32.2005(b)(3) of subpart C.

(c) Subsidiary records shall be maintained so as to show the character of the amounts contained in this account.

8. Add § 32.6621 to read as follows:

§ 32.6621 Call completion services.

This account shall include costs incurred in helping customers place and complete calls, except directory assistance. This includes handling and recording; intercept; quoting rates, time and charges; and all other activities involved in the manual handling of calls.

9. Add § 32.6623 to read as follows:

§ 32.6623 Customer services.

(a) This account shall include costs incurred in establishing and servicing customer accounts. This includes:

(1) Initiating customer service orders and records;

(2) Maintaining and billing customer accounts;

(3) Collecting and investigating customer accounts, including collecting revenues, reporting receipts, administering collection treatment, and handling contacts with customers regarding adjustments of bills;

(4) Collecting and reporting pay station receipts; and

(5) Instructing customers in the use of products and services.

(b) This account shall also include amounts paid by interexchange carriers or other exchange carriers to another exchange carrier for billing and collection services. Subsidiary record categories shall be maintained in order that the entity may separately report interstate and intrastate amounts. Such subsidiary record categories shall be reported as required by part 43 of this Commission's rules and regulations.

[FR Doc. 04-17077 Filed 7-26-04; 8:45 am]

BILLING CODE 6712-01-P